DEPARTMENT OF HOMELAND SECURITY

Federal Emergency Management Agency

[Docket ID FEMA-2022-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP).

DATES: The date of April 19, 2023 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Nicholas A. Shufro,
Assistant Administrator for Risk Management (Acting), Federal Emergency Management Agency, Department of Homeland Security.

Community | Community map repository address
Grand Traverse County, Michigan (All Jurisdictions)
Docket No.: FEMA-B-2144
Charter Township of East Bay | East Bay Township Hall, 1965 North Three Mile Road, Traverse City, MI 49696.
Charter Township of Garfield | Garfield Township Hall, 3848 Veterans Drive, Traverse City, MI 49684.
City of Traverse City | City Hall, 400 Boardman Avenue, Traverse City, MI 49684.
Grand Traverse Band of Ottawa and Chippewa Indians | Grand Traverse Band of Ottawa and Chippewa Indians, Tribal Government, 2605 North West Bay Shore Drive, Peshawbestown, MI 49682.
Township of Acme | Acme Township Hall, 6042 Acme Road, Williamsburg, MI 49690.
Township of Blair | Blair Township Hall, 2121 County Road 633, Grawn, MI 49637.
Township of Paradise | Paradise Township Hall, 2300 East M-113, Kingsley, MI 49649.
Township of Peninsula | Peninsula Township Hall, 13235 Center Road, Traverse City, MI 49686.
Township of Whitewater | Whitewater Township Hall, 5777 Vinton Road, Williamsburg, MI 49690.
Prince Edward County, Virginia and Incorporated Areas
Docket No.: FEMA-B-2172
Town of Farmville | Town Hall, 116 North Main Street, Farmville, VA 23901.
Unincorporated Areas of Prince Edward County | Prince Edward County Administrator's Office, 111 North South Street, Farmville, VA 23901.

[FR Doc. 2022-23882 Filed 11-2-22; 8:45 am]

BILLING CODE 9110-12-P